DEPARTMENT OF STATE

[Public Notice 4189]

Overseas Security Advisory Council (OSAC) Meeting Notice: Closed Meeting

The Department of State announces a meeting of the U.S. State Department—Overseas Security Advisory Council on June 24 and 25, 2003 at the Boeing Company, Arlington, Virginia. Pursuant to section 10 (d) of the Federal Advisory Committee Act and 5 U.S.C. 552b (c)(1) and (4), it has been determined the meeting will be closed to the public. Matters relative to classified national security information as well as privileged commercial information will be discussed. The agenda will include updated committee reports, a global threat overview, and other discussions involving sensitive and classified information, and corporate proprietary/security information, such as private sector physical and procedural security policies and protective programs and the protection of U.S. business information overseas.

For more information contact Marsha Thurman, Overseas Security Advisory Council, Department of State, Washington, DC 20522-1003, phone: 202-663-0533.

Dated: May 8, 2003.
Joe D. Morton,
Director of the Diplomatic Security Service, Department of State.

[FR Doc. 03-12651 Filed 5-19-03; 8:45 am]

BILLING CODE 4710-24-P